DEPARTMENT OF THE INTERIOR

Bureau of Land Management

[LLWY-957400-09-L14200000-BJ0000]

Notice of Filing of Plats of Survey, Wyoming

AGENCY: Bureau of Land Management, Interior.

ACTION: Notice of filing of plats of survey, Wyoming.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys were executed at the request of the Bureau of Land Management, and are necessary for the management of resources. The lands surveyed are:

The supplemental plat showing the corrected lottings and acreages, and the omitted lottings and acreages is based on the plats accepted October 31, 2007, Township 33 North, Range 109 West, of the Sixth Principal Meridian, Wyoming, was accepted January 15, 2009.

The supplemental plat showing updated lottings in sections 11 and 14, Township 14 North, Range 87 West, Sixth Principal Meridian, Wyoming, was accepted January 15, 2009, and is based on the plat of the independent resurvey approved June 17, 1922, and the plat of Mineral Survey No. 543 approved August 4, 1925.

The plat and field notes representing the dependent resurvey of a portion of the west boundary, and the subdivisional lines, Township 22 North, Range 94 West, Sixth Principal Meridian, Wyoming, Group No. 782, was accepted January 15, 2009.

The plat representing the entire record of the location and remonumentation of certain corners, Township 12 North, Range 68 West, Sixth Principal Meridian, Wyoming, Group No. 540, was accepted January 15, 2009.

The plat representing the entire record of the location and remonumentation of certain corners, Township 12 North, Range 69 West, Sixth Principal Meridian, Wyoming, Group No. 540, was accepted January 15, 2009.

The plat and field notes representing the dependent resurvey of a portion of the west boundary, a portion of the subdivisional lines, and the subdivision of section 7, Township 26 North, Range 81 West, of the Sixth Principal Meridian, Wyoming, Group No. 743, was accepted February 25, 2009.

The plat and field notes representing the dependent resurvey of a portion of the subdivisional lines and the subdivision of section 20, Township 17 North, Range 85 West, Sixth Principal Meridian, Wyoming, Group No. 783, was accepted February 25, 2009.

The plat and field notes representing the dependent resurvey of a portion of the Third Standard Parallel North, through Range 60 West, a portion of the subdivisional lines, and the subdivision of section 4, Township 12 North, Range 60 West of the Sixth Principal Meridian, Wyoming, Group No. 784, was accepted February 25, 2009.

The plat and field notes representing the dependent resurvey of a portion of the subdivisional lines, and the subdivision of section 28, Township 13 North, Range 60 West, of the Sixth Principal Meridian, Wyoming, Group No. 785, was accepted February 25, 2009.

The plat and field notes representing the dependent resurvey of the Thirteenth Auxiliary Guide Meridian West, through Township 27 North, between Ranges 108 and 109 West, the south, east and north boundaries and the subdivisional lines, Township 27 North, Range 108 West, of the Sixth Principal Meridian in the State of Wyoming, Group No. 777, was accepted February 25, 2009.

The plat and field notes representing the dependent resurvey of portions of the east and north boundaries, and the subdivisional lines, Township 51 North, Range 78 West, of the Sixth Principal Meridian, Wyoming, Group No. 749, was accepted February 25, 2009.

Copies of the preceding described plats and field notes are available to the public at a cost of $1.10 per page.

Dated: March 06, 2009.
John P. Lee,
Chief Cadastral Surveyor, Division of Support Services.

[FR Doc. E9-5353 Filed 3-11-09; 8:45 am]

BILLING CODE 4310-22-P